OVERSEAS PRIVATE INVESTMENT CORPORATION

Sunshine Act Meeting Notice—December 12, 2013 Board of Directors Meeting

TIME AND DATE: Thursday, December 12, 2013, 2 p.m. (OPEN Portion), 2:15 p.m. (CLOSED Portion).

PLACE: Offices of the Corporation, Twelfth Floor Board Room, 1100 New York Avenue NW., Washington, DC

STATUS: Meeting OPEN to the Public from 2 p.m. to 2:15 p.m. Closed portion will commence at 2:15 p.m. (approx.)

MATTERS TO BE CONSIDERED:

1. President's Report

2. Tribute—Francisco J. Sánchez

3. Tribute—Lael Brainard

4. Minutes of the Open Session of the September 19, 2013 Board of Directors Meeting

FURTHER MATTERS TO BE CONSIDERED: (Closed to the Public 2:15 p.m.):

1. Office of Accountability

2. Enterprise Risk Management

3. Minutes of the Closed Session of the September 19, 2013 Board of Directors Meeting

4. Reports

5. Pending Projects

CONTACT PERSON FOR INFORMATION: Information on the meeting may be obtained from Connie M. Downs at (202) 336-8438.

Dated: November 22, 2013.
Connie M. Downs,
Corporate Secretary, Overseas Private Investment Corporation.

[FR Doc. 2013-28305 Filed 11-21-13; 11:15 am]

BILLING CODE 3210-01-P